DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce the following meeting of the Strategic Environmental Research and Development Program, Scientific Advisory Board (SAB). DATES: Tuesday, October 15, 2013, from 9:00 a.m. to 5:00 p.m. and Wednesday, October 16, 2013, from 8:30 a.m. to 4:25 p.m.

ADDRESSES: Potomac Institute for Policy Studies, 901 North Stuart Street, Suite 200, Arlington, VA 22203.

FOR FURTHER INFORMATION CONTACT: Mr. Jonathan Bunger, SERDP Office, 4800 Mark Center Drive, Suite 17D08, Alexandria, VA 22350-3605; or by telephone at (571) 372-6384.

SUPPLEMENTARY INFORMATION: The meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

The purpose of the September 11-12, 2013 meeting is to review new start research and development projects requesting Strategic Environmental Research and Development Program funds in excess of $1 million over the proposed length of the project as required by the SERDP Statute, U.S. Code ‐ Title 10, Subtitle A, Part IV, Chapter 172, § 2904. The full agenda follows:

Tuesday, October 15, 2013
9:00 a.m. | Convene/Opening Remarks Approval of September 2013 Minutes | Mr. Joseph Francis, Chair.
9:10 a.m. | Program Update | Dr. Anne Andrews, Acting Executive Director.
9:25 a.m. | Weapons Systems and Platforms Overview | Dr. Robin Nissan, Weapons Systems and Platforms, Program Manager.
9:35 a.m. | 14 WP04-002 (WP-2405): Proof of Concept Novel Low-Toxicity Obscurant (FY14 New Start) | Mr. Rutger Webb, TNO, Rijswijk, Netherlands.
10:20 a.m. | Weapons Systems and Platforms Overview | Dr. Robin Nissan, Weapons Systems and Platforms, Program Manager.
10:30 a.m. | 14 WP01-009 (WP-2400): Environmentally Sustainable Liquid Gas Generator Formulations (FY14 New Start) | Mr. Gary Holland, Aerojet General Corporation, Redmond, WA.
11:15 a.m. | Break
11:30 a.m. | 14 WP01-011 (WP-2401): Development of Low-Toxicity Liquid Propellant System for Orbital/Sub-Orbital Applications (FY14 New Start) | Mr. Joseph Clubb, Naval Air Warfare Center, Weapons Division, China Lake, CA.
12:15 p.m. | Lunch
1:15 p.m. | Environmental Restoration Overview | Dr. Andrea Leeson, Environmental Restoration, Program Manager.
1:25 p.m. | 14 ER02-023 (ER-2423): In Situ Treatment Train for Remediation of Perfluoroalkyl Contaminated Groundwater: In Situ Chemical Oxidation of Sorbed Contaminants (ISCO-SC) (FY14 New Start) | Dr. Michelle Crimi, Clarkson University, Potsdam, NY.
2:10 p.m. | 14 ER02-030 (ER-2424): Investigating Electrocatalytic and Catalytic Approaches for in situ Treatment of Perfluoroalkyl Contaminants in Groundwater (FY14 New Start) | Dr. Charles Schaefer, Shaw Environmental, Inc., Lawrenceville, NJ.
2:55 p.m. | Break
3:10 p.m. | 14 ER02-031 (ER-2425): Development of a Novel Approach for In Situ Remediation of PFC Contaminated Groundwater Systems (FY14 New Start) | Dr. Matt Simcik, University of Minnesota, Minneapolis, MN.
3:55 p.m. | 14 ER02-041 (ER-2426): Quantification of In Situ Chemical Reductive Defluorination (ISCRD) of Perfluoroalkyl Acids in Ground Water Impacted by AFFFs (FY14 New Start) | Dr. Linda Lee, Purdue University, West Lafayette, IN.
4:40 p.m. | Strategy Session | Dr. Anne Andrews, Acting Executive Director.
5:00 p.m. | Public Discussion/Adjourn for the day
Wednesday, October 16, 2013
8:30 a.m. | Convene | Mr. Joseph Francis, Chair.
8:40 a.m. | Munitions Response Overview | Dr. Herb Nelson, Munitions Response, Program Manager.
8:50 a.m. | 14 MR01-017 (MR-2410): Large-Scale Laboratory Experiments of Incipient Motion, Transport, and Fate of Underwater Munitions under Waves, Currents, and Combined-Flows (FY14 New Start) | Dr. Marcelo Garcia, University of Illinois at Urbana-Champaign, Urbana, IL.
9:35 a.m. | 14 MR01-009 (MR-2439): Multipass and Non-Concentric Target CSAS (FY14 New Start) | Dr. Jermaine Kennedy, NSWC-PCD, Panama City Beach, FL.
10:20 a.m. | Break
10:35 a.m. | Environmental Restoration Overview | Dr. Andrea Leeson, Environmental Restoration, Program Manager.
10:45 a.m. | 14 ER03-002 (ER-2427): Understanding the Relationships Among Low Level Metal Influx, Remediated Sediments, and Biological Receptors (FY14 New Start) | Dr. Anna Knox, Savannah River National Laboratory, Aiken, SC.
11:30 a.m. | 14 RC01-015 (RC-2434): Seed Dispersal Networks and Novel Ecosystem Functioning in Hawaii (FY14 Re-Brief) | Dr. Jeffrey Foster, Northern Arizona University, Flagstaff, AZ.
12:00 p.m. | Lunch
1:00 p.m. | 14 ER03-025 (ER-2428): Assessment and Management of Stormwater Impacts on Sediment Recontamination (FY14 New Start) | Dr. Danny Reible, University of Texas, Austin, TX.
1:45 p.m. | 14 ER03-028 (ER-2429): Combining Mass Balance Modeling with Passive Sampling at Contaminated Sediment Sites to Evaluate Continuing Inputs and Food Web Responses to Remedial Actions (FY14 New Start) | Dr. Philip Gschwend, Massachusetts Institute of Technology, Cambridge, MA.
2:30 p.m. | Break
2:45 p.m. | 14 ER03-035 (ER-2431): Quantitative Thermodynamic Exposure Assessment (Q-TEA) Supporting Resilient Contaminated Sediment Site Restoration (FY14 New Start) | Dr. Todd Bridges, USACE-ERDC-EL, Vicksburg, MS.
3:30 p.m. | Environmental Restoration Overview | Dr. Andrea Leeson, Environmental Restoration, Program Manager.
3:40 p.m. | 14 ER04-001 (ER-2135): Application of Biofilm Covered Activated Carbon Particles as a Microbial Inoculum Delivery System in Weathered PCB Contaminated Sediment (FY14 Follow On) | Dr. Birthe Kjellerup, Goucher College, Baltimore, MD.
4:25 p.m. | Public Discussion/Adjourn

Pursuant to 41 CFR 102-3.105(j) and 102-3.140, and section 10(a)(3) of the Federal Advisory Committee Act of 1972, the public or interested organizations may submit written statements to the Strategic Environmental Research and Development Program, Scientific Advisory Board. Written statements to the committee may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://facasms.fido.gov/.

Time is allotted at the close of each meeting day for the public to make comments. Oral comments are limited to 5 minutes per person.

Dated: September 18, 2013.
Aaron Siegel,
Alternate OSD Federal Register Liaison Officer, Department of Defense.

[FR Doc. 2013-23109 Filed 9-23-13; 8:45 am]

BILLING CODE 5001-06-P